NATIONAL SCIENCE FOUNDATION

Agency Information Collection Activities: Addendum to Comment Request

AGENCY: National Science Foundation.

ACTION: Submission for OMB review; comment request.

SUMMARY: The National Science Foundation (NSF) has submitted the following information collection requirement to OMB for review and clearance under the Paperwork Reduction Act of 1995, Public Law 104-13. This is the third notice for public comment; the first was published in the Federal Register at 70 FR 75227; the second was published at 71 FR noting one comment was received. This notice is to acknowledge a second comment received on February 16, 2006. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Comment: On February 16, NSF received a comment from the Bureau of Economic Analysis (BEA) requesting consideration of several additional items to add to both the academic and the FFRDC survey forms. These items were as follows: R&D expenditures that are not separately budgeted by academic institutions, foreign sources of R&D funding as well as the expenditure amounts that are passed through to foreign performers, receipts universities receive from the sale of R&D, Federal funding of R&D divided into the categories suggested by the Frascati Manual (Section 6.3.2, item 397), separate reporting for research software purchases, and R&D expenditures used to create software.

Response: NSF recognizes the importance of these additional items to BEA and other stakeholders. Although NSF does not plan to add these items to the survey forms for the 2006 fiscal year, many of these are critical new indicators of R&D in the 21st century and deserve further investigation when planning the survey's future. Therefore, each of these items will be included for consideration in survey workshops with institutional respondents, in order to determine the best ways of obtaining these data with minimal respondent burden.

Dated: March 30, 2006.
Suzanne H. Plimpton,
Reports Clearance Officer, National Science Foundation.

[FR Doc. 06-3210 Filed 4-3-06; 8:45 am]

BILLING CODE 7555-01-M